DEPARTMENT OF THE TREASURY

Office of Foreign Assets Control

31 CFR Parts 501, 510, 535, 536, 547, 548, 551, 552, 553, 558, 561, 566, 570, 578, 588, 589, 590, 592, 594, 597, 598

Updating Contact Information and Grammatical Terminology in OFAC Regulations

AGENCY: Office of Foreign Assets Control, Treasury.

ACTION: Final rule.

SUMMARY: The Department of the Treasury's Office of Foreign Assets Control (OFAC) is adopting a final rule to update contact information and grammatical terminology in existing regulations.

DATES: This rule is effective March 5, 2024.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

In this document, OFAC is updating 20 parts of 31 CFR Chapter V and an Appendix to update the name of an OFAC office and an email address and is updating two parts to remove options for mail submissions. OFAC is also amending four parts to make gender language more inclusive, replacing instances of “his” (when not part of the phrase “his or hers”) with “theirs,” and replacing “he” (when not part of the phrase “he or she”) with “they.” Finally, OFAC is making changes in the authorities citations of 31 CFR part 594 and an Appendix to more specifically reference the relevant statutory authorities in each citation.

Public Participation

Because the amendment of the Regulations is a rule of agency procedure and because it involves a foreign affairs function, the provisions of E.O. 12866 of September 30, 1993, “Regulatory Planning and Review” (58 FR 51735, October 4, 1993), as amended, and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the regulations being amended in this rule are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Parts 501, 510, 535, 536, 547, 548, 551, 552, 553, 558, 561, 566, 570, 578, 588, 589, 590, 592, 594, 597, 598

Administrative practice and procedure, Banks, banking, Blocking of assets, Credit, Foreign trade, Penalties, Reporting and recordkeeping requirements, Sanctions, Securities, Services.

For the reasons set forth in the preamble, OFAC is issuing the following amendments:

PART 501—REPORTING, PROCEDURES AND PENALTIES REGULATIONS

1. The authority citation for part 501 continues to read as follows:

Authority: 8 U.S.C. 1189; 18 U.S.C. 2332d, 2339B; 19 U.S.C. 3901-3913; 21 U.S.C. 1901-1908; 22 U.S.C. 287c, 2370(a), 6009, 6032, 7205, 8501-8551; 31 U.S.C. 321(b); 50 U.S.C. 1701-1706, 4301-4341; Pub. L. 101-410, 104 Stat. 890, as amended (28 U.S.C. 2461 note).

Subpart C—Reports

§ 501.603 [Amended]

2. Amend § 501.603 in paragraph (d) by removing the phrase “Sanctions Compliance and Evaluation” and adding in its place the word “Compliance”.

§ 501.604 [Amended]

3. Amend § 501.604 in paragraph (d) by removing the phrase “Sanctions Compliance and Evaluation” and adding in its place the word “Compliance”.

Subpart E—Procedures

§ 501.806 [Amended]

4. Amend § 501.806 in paragraph (b) by removing the phrase “Sanctions Compliance & Evaluation” in both places it ocurrs and adding in its place the word “Compliance”.

PART 510—NORTH KOREA SANCTIONS REGULATIONS

5. The authority citation for part 510 continues to read as follows:

Authority: 3 U.S.C. 301; 31 U.S.C. 321(b); 50 U.S.C. 1601-1651, 1701-1706; 22 U.S.C. 287c, 9201-9255; Pub. L. 101-410, 104 Stat. 890, as amended (28 U.S.C. 2461 note); Pub. L. 115-44, 131 Stat. 886 (codified in scattered sections of 22 U.S.C.); E.O. 13466, 73 FR 36787, 3 CFR, 2008 Comp., p. 195; E.O. 13551, 75 FR 53837, 3 CFR., 2010 Comp., p. 242; E.O. 13570, 76 FR 22291, 3 CFR, 2011 Comp., p. 233; E.O. 13687, 80 FR 819, 3 CFR, 2015 Comp., p. 259; E.O. 13722, 81 FR 14943, 3 CFR, 2016 Comp., p. 446; E.O. 13810, 82 FR 44705, 3 CFR, 2017 Comp., p. 379.

Subpart E—Licenses, Authorizations, and Statements of Licensing Policy

§ 510.519 [Amended]

6. Amend § 510.519 in paragraph (b)(2) by removing the phrase “Office of Compliance and Enforcement” and adding in its place the phrase “Compliance Division”.

Subpart G—Penalties and Finding of Violation

§ 510.702 [Amended]

7. Amend § 510.702 in paragraph (b)(3) by removing the phrase “Office of Compliance and Enforcement” and adding in its place the phrase “Enforcement Division”.

PART 535—IRANIAN ASSETS CONTROL REGULATIONS

8. The authority citation for part 535 continues to read as follows:

Authority: 3 U.S.C. 301; 18 U.S.C. 2332d; 31 U.S.C. 321(b); 50 U.S.C. 1601-1651, 1701-1706; Pub. L. 101-410, 104 Stat. 890, as amended (28 U.S.C. 2461 note); E.O. 12170, 44 FR 65729, 3 CFR, 1979 Comp., p. 457; E.O. 12205, 45 FR 24099, 3 CFR, 1980 Comp., p. 248; E.O. 12211, 45 FR 26685, 3 CFR, 1980 Comp., p. 253; E.O. 12276, 46 FR 7913, 3 CFR, 1981 Comp., p. 104; E.O. 12279, 46 FR 7919, 3 CFR, 1981 Comp., p. 109; E.O. 12280, 46 FR 7921, 3 CFR, 1981 Comp., p. 110; E.O. 12281, 46 FR 7923, 3 CFR, 1981 Comp., p. 112; E.O. 12282, 46 FR 7925, 3 CFR, 1981 Comp., p. 113; E.O. 12283, 46 FR 7927, 3 CFR, 1981 Comp., p. 114; E.O. 12294, 46 FR 14111, 3 CFR, 1981 Comp., p. 139.

Subpart G—Penalties

§ 535.702 [Amended]

9. Amend § 535.702 as follows:

a. In paragraphs (a) and (b)(2), remove the word “his” and add in its place the word “their”; and

b. In paragraph (a), remove the word “he” and add in its place the word “they”.

§ 535.704 [Amended]

10. Amend § 535.704 in paragraphs (a) and (b) by removing the word “he” and adding in its place the word “they”.

PART 536—NARCOTICS TRAFFICKING SANCTIONS

11. The authority citation for part 536 continues to read as follows:

Authority: 3 U.S.C. 301; 31 U.S.C. 321(b); 50 U.S.C. 1601-1651, 1701-1706; Pub. L. 101-410, 104 Stat. 890, as amended (28 U.S.C. 2461 note); E.O. 12978, 60 FR 54579, 3 CFR, 1995 Comp., p. 415; E.O. 13286, 68 FR 10619, 3 CFR, 2003 Comp., p. 166.

Subpart E—Licenses, Authorizations, and Statements of Licensing Policy

12. Amend § 536.510 by revising paragraph (b)(2) to read:

§ 536.510 Certain transactions for the expenses of maintaining blocked tangible property.

* * * * *

(b) * * *

(2) The reports, which must reference this section, are to be submitted to OFAC via email to OFACReport@treasury.gov.

Subpart G—Penalties

§ 536.702 [Amended]

13. Amend § 536.702 in paragraph (a) by removing the word “his” and adding in its place the word “their” and removing the word “he” and adding in its place the word “they”.

PART 547—DEMOCRATIC REPUBLIC OF THE CONGO SANCTIONS REGULATIONS

14. The authority citation for part 547 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13413, 71 FR 64105, 3 CFR, 2006 Comp., p. 247; E.O. 13671, 79 FR 39949, 3 CFR, 2015 Comp., p. 280.

Subpart G—Penalties and Finding of Violation

§ 547.702 [Amended]

15. Amend § 547.702 in paragraph (b)(3) by removing the phrase “Office of Compliance and Enforcement” and adding in its place the phrase “Enforcement Division”.

PART 548—BELARUS SANCTIONS REGULATIONS

16. The authority citation for part 548 continues to read as follows:

Authority: 3 U.S.C. 301; 31 U.S.C. 321(b); 50 U.S.C. 1601-1651, 1701-1706; Pub. L. 101-410, 104 Stat. 890, as amended (28 U.S.C. 2461 note); E.O. 13405, 71 FR 35485, 3 CFR, 2006 Comp., p. 231; E.O. 14038, 86 FR 43905, 3 CFR, 2021 Comp., p. 626.

Subpart G—Penalties and Findings of Violation

§ 548.702 [Amended]

17. Amend § 548.702 in paragraph (b)(3) by removing the phrase “Office of Compliance and Enforcement” and adding in its place the phrase “Enforcement Division”.

§ 548.705 [Amended]

18. Amend § 548.705 in paragraph (b)(3) by removing the phrase “Office of Compliance and Enforcement” and adding in its place the phrase “Enforcement Division”.

PART 551—SOMALIA SANCTIONS REGULATIONS

19. The authority citation for part 551 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13536, 75 FR 19869, 3 CFR, 2010 Comp., p. 203; E.O. 13620, 77 FR 43483, 3 CFR, 2012 Comp., p. 281.

Subpart G—Penalties and Findings of Violation

§ 551.702 [Amended]

20. Amend § 551.702 in paragraph (b)(3) by removing the phrase “Office of Compliance and Enforcement” and adding in its place the phrase “Enforcement Division”.

PART 552—YEMEN SANCTIONS REGULATIONS

21. The authority citation for part 552 continues to read as follows:

Authority: 3 U.S.C. 301; 31 U.S.C. 321(b); 50 U.S.C. 1601-1651, 1701-1706; Pub. L. 101-410, 104 Stat. 890, as amended (28 U.S.C. 2461 note); E.O. 13611, 77 FR 29533, 3 CFR, 2012 Comp., p. 260.

Subpart G—Penalties and Findings of Violation

§ 552.702 [Amended]

22. Amend § 551.702 in paragraph (b)(3) by removing the phrase “Office of Compliance and Enforcement” and adding in its place the phrase “Enforcement Division”.

PART 553—CENTRAL AFRICAN REPUBLIC SANCTIONS REGULATIONS

23. The authority citation for part 553 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13667, 79 FR 28387, 3 CFR, 2014 Comp., p. 243.

Subpart G—Penalties and Findings of Violation

§ 553.702 [Amended]

24. Amend § 553.702 in paragraph (b)(3) by removing the phrase “Office of Compliance and Enforcement” and adding in its place the phrase “Enforcement Division”.

§ 553.705 [Amended]

25. Amend § 553.705 in paragraph (b)(3) by removing the phrase “Office of Compliance and Enforcement” and adding in its place the phrase “Enforcement Division”.

PART 558—SOUTH SUDAN SANCTIONS REGULATIONS

26. The authority citation for part 558 continues to read as follows:

Authority: 3 U.S.C. 301; 31 U.S.C. 321(b); 50 U.S.C. 1601-1651, 1701-1706; Pub. L. 101-410, 104 Stat. 890, as amended (28 U.S.C. 2461 note); E.O. 13664, 79 FR 19283, 3 CFR, 2014 Comp., p. 238.

Subpart G—Penalties and Findings of Violation

§ 558.702 [Amended]

27. Amend § 558.702 in paragraph (b)(3) by removing the phrase “Office of Compliance and Enforcement” and adding in its place the phrase “Enforcement Division”.

§ 558.705 [Amended]

28. Amend § 558.705 in paragraph (b)(3) by removing the phrase “Office of Compliance and Enforcement” and adding in its place the phrase “Enforcement Division”.

PART 561—IRANIAN FINANCIAL SANCTIONS REGULATIONS

29. The authority citation for part 561 continues to read as follows:

Authority: 3 U.S.C. 301; 31 U.S.C. 321(b); 50 U.S.C. 1601-1651, 1701-1706; 22 U.S.C. 8501-8551, 8701-8795; Pub. L. 101-410, 104 Stat. 890, as amended (28 U.S.C. 2461 note); E.O. 12957, 60 FR 14615, 3 CFR, 1995 Comp., p. 332; E.O. 13553, 75 FR 60567, 3 CFR, 2010 Comp., p. 253; E.O. 13599, 77 FR 6659, 3 CFR, 2012 Comp., p. 215; E.O. 13846, 83 FR 38939, 3 CFR, 2018 Comp., p. 854; E.O. 13871, 84 FR 20761, 3 CFR, 2019 Comp., p. 309.

Subpart E—Licenses, Authorizations, and Statements of Licensing Policy

§ 561.504 [Amended]

30. Amend § 561.504 in paragraph (b) by removing the phrase “Sanctions, Compliance & Evaluations” and adding in its place the word “Compliance”.

PART 566—HIZBALLAH FINANCIAL SANCTIONS REGULATIONS

31. The authority citation for part 566 continues to read as follows:

Authority: 3 U.S.C. 301; 31 U.S.C. 321(b); 50 U.S.C. 1601-1651, 1701-1706; Pub. L. 101-410, 104 Stat. 890, as amended (28 U.S.C. 2461 note); Pub. L. 114-102, 129 Stat. 2205 (50 U.S.C. 1701 note); Pub. L. 115-272, 132 Stat. 4144 (50 U.S.C. 1701 note).

Subpart E—Licenses, Authorizations, and Statements of Licensing Policy

§ 566.504 [Amended]

32. Amend § 566.504 in paragraph (b) by removing the phrase “Sanctions, Compliance & Evaluation” and adding in its place the word “Compliance”.

PART 570—LIBYAN SANCTIONS REGULATIONS

33. The authority citation for part 570 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13566, 76 FR 11315, 3 CFR, 2011 Comp., p. 222; E.O. 13726, 81 FR 23559, 3 CFR, 2016 Comp., p. 454.

Subpart E—Licenses, Authorizations, and Statements of Licensing Policy

§ 570.514 [Amended]

34. Amend § 570.514 in paragraph (c) by removing the phrase “Sanctions Compliance and Evaluation” and adding in its place the word “Compliance”.

§ 570.515 [Amended]

35. Amend § 570.515 in paragraph (b) by removing the phrase “Sanctions Compliance and Evaluation” and adding in its place the word “Compliance”.

§ 570.516 [Amended]

36. Amend § 570.516 in paragraph (b) by removing the phrase “Sanctions Compliance and Evaluation” and adding in its place the word “Compliance”.

Subpart G—Penalties and Findings of Violation

§ 570.702 [Amended]

37. Amend § 570.702 in paragraph (b)(3) by removing the phrase “Office of Compliance and Enforcement” and adding in its place the phrase “Enforcement Division”.

§ 570.705 [Amended]

38. Amend § 570.705 in paragraph (b)(3) by removing the phrase “Office of Compliance and Enforcement” and adding in its place the phrase “Enforcement Division”.

PART 578—CYBER-RELATED SANCTIONS REGULATIONS

39. The authority citation for part 578 continues to read as follows:

Authority: 3 U.S.C. 301; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13694, 80 FR 18077, 3 CFR 2015 Comp., p. 297; E.O. 13757, 82 FR 1, 3 CFR 2016 Comp., p. 659.

Subpart G—Penalties and Findings of Violation

§ 578.702 [Amended]

40. Amend § 578.702 in paragraph (b)(3) by removing the phrase “Office of Compliance and Enforcement” and adding in its place the phrase “Enforcement Division”.

§ 578.705 [Amended]

41. Amend § 578.705 in paragraph (b)(3) by removing the phrase “Office of Compliance and Enforcement” and adding in its place the phrase “Enforcement Division”.

PART 588—WESTERN BALKANS STABILIZATION REGULATIONS

42. The authority citation for part 588 continues to read as follows:

Authority: 3 U.S.C. 301; 31 U.S.C. 321(b); 50 U.S.C. 1601-1651, 1701-1706; 22 U.S.C. 287c; Pub. L. 101-410, 104 Stat. 890, as amended (28 U.S.C. 2461 note); E.O. 13219, 66 FR 34777, 3 CFR, 2001 Comp., p. 778; E.O. 13304, 68 FR 32315, 3 CFR, 2004 Comp., p. 229; E.O. 14033, 86 FR 43905, 3 CFR, 2022 Comp., p. 591.

Subpart G—Penalties and Findings of Violation

§ 588.702 [Amended]

43. Amend § 588.702 in paragraph (b)(3) by removing the phrase “Office of Compliance and Enforcement” and adding in its place the phrase “Enforcement Division”.

§ 588.705 [Amended]

44. Amend § 588.705 in paragraph (b)(3) by removing the phrase “Office of Compliance and Enforcement” and adding in its place the phrase “Enforcement Division”.

PART 589—UKRAINE-/RUSSIA-RELATED SANCTIONS REGULATIONS

45. The authority citation for part 589 continues to read as follows:

Authority: 3 U.S.C. 301; 22 U.S.C. 8901-8910, 8921-8930; 31 U.S.C. 321(b); 50 U.S.C. 1601-1651, 1701-1706; Pub. L. 101-410, 104 Stat. 890, as amended (28 U.S.C. 2461 note); Pub. L. 115-44, 131 Stat. 886 (codified in scattered sections of 22 U.S.C.); E.O. 13660, 79 FR 13493, 3 CFR, 2014 Comp., p. 226; E.O. 13661, 79 FR 15535, 3 CFR, 2014 Comp., p. 229; E.O. 13662, 79 FR 16169, 3 CFR, 2014 Comp., p. 233; E.O. 13685, 79 FR 77357, 3 CFR, 2014 Comp., p. 313.

Subpart E—Licenses, Authorizations, and Statements of Licensing Policy

§ 589.521 [Amended]

46. Amend § 589.521 in paragraph (b)(2) by removing the phrase “Office of Compliance and Enforcement” and adding in its place the phrase “Compliance Division”.

Subpart G—Penalties and Findings of Violation

§ 589.702 [Amended]

47. Amend § 589.702 in paragraph (b)(3) by removing the phrase “Office of Compliance and Enforcement” and adding in its place the phrase “Enforcement Division”.

§ 589.705 [Amended]

48. Amend § 589.705 in paragraph (b)(3) by removing the phrase “Office of Compliance and Enforcement” and adding in its place the phrase “Enforcement Division”.

PART 590—TRANSNATIONAL CRIMINAL ORGANIZATIONS SANCTIONS REGULATIONS

49. The authority citation for part 590 continues to read as follows:

Authority: 3 U.S.C. 301; 31 U.S.C. 321(b); 50 U.S.C. 1601-1651, 1701-1706; Pub. L. 101-410, 104 Stat. 890, as amended (28 U.S.C. 2461 note); E.O. 13581, 76 FR 44757, 3 CFR, 2011 Comp., p. 260; E.O. 13863, 84 FR 10255, 3 CFR, 2019 Comp., p. 267.

Subpart G—Penalties and Findings of Violation

§ 590.702 [Amended]

50. Amend § 590.702 in paragraph (b)(3) by removing the phrase “Office of Compliance and Enforcement” and adding in its place the phrase “Enforcement Division”.

§ 590.705 [Amended]

51. Amend § 590.705 in paragraph (b)(3) by removing the phrase “Office of Compliance and Enforcement” and adding in its place the phrase “Enforcement Division”.

PART 592—ROUGH DIAMONDS CONTROL REGULATIONS

52. The authority citation for part 592 continues to read as follows:

Authority: 3 U.S.C. 301; 19 U.S.C. 3901-3913; 31 U.S.C. 321(b); Pub. L. 101-410, 104 Stat. 890, as amended (28 U.S.C. 2461 note); E.O. 13312, 68 FR 45151, 3 CFR, 2003 Comp., p. 246.

Subpart F—Penalties

§ 592.602 [Amended]

53. Amend § 592.602 in paragraph (b)(3) by removing the phrase “Office of Compliance and Enforcement” and adding in its place the phrase “Enforcement Division”.

PART 594—GLOBAL TERRORISM SANCTIONS REGULATIONS

54. The authority citation for part 594 is revised to read as follows:

Authority: 3 U.S.C. 301; 22 U.S.C. 287c; 31 U.S.C. 321(b); 50 U.S.C. 1601-1651, 1701-1706; Pub. L. 101-410, 104 Stat. 890, as amended (28 U.S.C. 2461 note); Pub. L. 114-102, 129 Stat. 2205, as amended (50 U.S.C. 1701 note); Title I, Pub. L. 115-44, 131 Stat 886 (22 U.S.C. 9404-9411); Pub. L. 115-348, 132 Stat. 5055 (50 U.S.C. 1701 note); E.O. 13224, 66 FR 49079, 3 CFR, 2001 Comp., p. 786; E.O. 13268, 67 FR 44751, 3 CFR 2002 Comp., p. 240; E.O. 13284, 68 FR 4075, 3 CFR, 2003 Comp., p. 161; E.O. 13372, 70 FR 8499, 3 CFR, 2006 Comp., p. 159; E.O. 13886, 84 FR 48041, 3 CFR, 2019 Comp., p. 356.

Subpart B—Prohibitions

§ 594.201 [Amended]

55. Amend § 594.201 in note 1 to § 594.201 by removing the phrase “Sanctions Compliance & Evaluation” and adding in its place the word “Compliance”.

Subpart G—Penalties

§ 594.702 [Amended]

56. Amend § 594.702 in paragraph (c) by removing the word “his” and adding in its place the word “their”.

§ 594.703 [Amended]

57. Amend § 594.703 in paragraph (a) by removing the word “his” and adding in its place the word “their”.

PART 597—FOREIGN TERRORIST ORGANIZATIONS SANCTIONS REGULATIONS

58. The authority citation for part 597 continues to read as follows:

Authority: 8 U.S.C. 1189; 18 U.S.C. 2339B; 31 U.S.C. 321(b); Pub. L. 101-410, 104 Stat. 890, as amended (28 U.S.C. 2461 note).

Subpart C—General Definitions

§ 597.305 [Amended]

59. Amend § 597.305 by removing the word “his” and adding in its place the word “their”.

PART 598—FOREIGN NARCOTICS KINGPIN SANCTIONS REGULATIONS

60. The authority citation for part 598 continues to read as follows:

Authority: 3 U.S.C. 301; 21 U.S.C. 1901-1908; 31 U.S.C. 321(b); Pub. L. 101-410, 104 Stat. 890, as amended (28 U.S.C. 2461 note).

Subpart E—Licenses, Authorizations, and Statements of Licensing Policy

§ 598.511 [Amended]

61. Amend § 598.511 by revising paragraph (b)(2) to read:

* * * * *

(b) * * *

(2) The reports, which must reference this section, are to be submitted to OFAC via email to OFACReport@treasury.gov.

Appendix A to Chapter V—Information Pertaining to the Specially Designated Nationals and Blocked Persons List

62. The authority citation for appendix A to chapter V is revised to read as follows:

Authority: 3 U.S.C. 301; 8 U.S.C. 1182, 1189; 18 U.S.C. 2339B; 21 U.S.C. 1901-1908; 22 U.S.C. 287c; 31 U.S.C. 321(b); 22 U.S.C. 9201-9255; 22 U.S.C. 10101-10103; 50 U.S.C. App. 1-44; Pub. L. 110-286, 122 Stat. 2632 (50 U.S.C. 1701 note); Pub. L. 111-195, 124 Stat. 1312 (22 U.S.C. 8501-8551); Pub. L.112-81, 125 Stat. 1298 (22 U.S.C. 8513a); Pub. L. 112-158, 126 Stat. 1214 (22 U.S.C. 8701-8795); Pub. L. 112-208, 126 Stat. 1502 (22 U.S.C. 5811 note); Pub. L. 113-278, 128 Stat. 3011 (50 U.S.C. 1701 note); Pub. L. 114-102, 129 Stat. 2205 (50 U.S.C. 1701 note); Pub. L. 114-194, 130 Stat. 674 (50 U.S.C. 1701 note); Pub. L. 115-44, 131 Stat. 886 (codified in scattered sections of 22 U.S.C.).

Appendix A to Chapter V [Amended]

63. Amend appendix A to chapter V in the second paragraph and notes 5 and 7 by removing the phrase “Sanctions Compliance & Evaluation” and adding in its place the word “Compliance”.

Bradley T. Smith,
Director, Office of Foreign Assets Control.

[FR Doc. 2024-04503 Filed 3-1-24; 8:45 am]

BILLING CODE 4810-AL-P